FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011515-011.

Title: Steamship Line Cooperative Chassis Pool.

Parties: Atlantic Container Line AB; China Shipping Container Lines Co., Ltd.; COSCO Container Lines Company, Ltd.; CMA CGM, S.A.; Compania Sud Americana de Vapores, S.A.; Evergreen Marine Corp. (Taiwan) Ltd.; Hanjin Shipping Co., Ltd.; Kawasaki Kisen Kaisha, Ltd.; Mediterranean Shipping Company, S.A.; Safmarine Container Lines, NV; Yangming Marine Transport Corporation; and Zim Integrated Shipping Services, Ltd.

Filing Party: Wayne R. Rohde, Esq.; Sher & Blackwell LLP; 1850 M Street, NW; Suite 900; Washington, DC 20036.

Synopsis: The amendment substitutes COSCO Container Lines (Hong Kong) Co., Ltd. for COSCO Container Lines Company, Ltd. and reflects a change in the Evergreen entity that will be a party to the agreement effective May 1, 2007.

Agreement No.: 011689-010.

Title: Zim/CSCL Space Charter Agreement.

Parties: Zim Integrated Shipping Services, Ltd.; China Shipping Container Line Co., Ltd.; and China Shipping Container Lines (Hong Kong) Co., Ltd.

Filing Party: Wayne R. Rohde, Esq.; Sher & Blackwell LLP; 1850 M Street, NW; Suite 900; Washington, DC 20036.

Synopsis: The amendment revises the Agreement to delete the March 19, 2007 expiration date and provide the agreement with an indefinite duration.

Agreement No.: 011794-006.

Title: COSCON/KL/YMUK/Hanjin/Senator Worldwide Slot Allocation & Sailing Agreement.

Parties: COSCO Container Lines Company, Limited; Kawasaki Kisen Kaisha, Ltd.; Yangming (UK) Ltd.; Hanjin Shipping Co., Ltd.; and Senator Lines GmbH.

Filing Party: Robert B. Yoshitomi, Esq.; Nixon Peabody LLP; 555 West 5th Street, 46th Floor; Los Angeles, CA 90013.

Synopsis: The amendment adds COSCO Container Lines (Hong Kong) Co., Limited and removes COSCO Container Lines Co., Limited effective March 1, 2007.

Agreement No.: 011882-002.

Title: Zim/COSCON Slot Charter Agreement.

Parties: COSCO Container Lines Co. Ltd. and Zim Integrated Shipping Services, Ltd.

Filing Party: Robert B. Yoshitomi, Esq.; Nixon Peabody LLP; 555 West 5th Street, 46th Floor; Los Angeles, CA 90013.

Synopsis: The amendment adds COSCO Container Lines (Hong Kong) Co., Limited and removes COSCO Container Lines Co., Limited effective March 1, 2007.

Agreement No.: 011937-001.

Title: MSC/CKY Space Charter Agreement.

Parties: COSCO Container Lines Company, Limited; Kawasaki Kisen Kaisha, Ltd.; Mediterranean Shipping Co. S.A.; and YangMing (UK) Ltd.

Filing Party: Robert B. Yoshitomi, Esq.; Nixon Peabody LLP; 555 West 5th Street, 46th Floor; Los Angeles, CA 90013.

Synopsis: The amendment adds COSCO Container Lines (Hong Kong) Co., Limited, and removes COSCO Container Lines Co., Limited effective March 1, 2007.

Agreement No.: 011961-001.

Title: The Maritime Credit Agreement.

Parties: Alianca Navegacao e Logistica Ltda. & Cia; A.P. Moller-Maersk A/S; Atlantic Container Line AB; China Shipping Container Lines Co., Ltd.; CMA CGM, S.A.; Companhia Libra de Navegacao; Compania Sudamericana de Vapores, S.A.; COSCO Container Lines Company Limited; Crowley Liner Services, Inc.; Dole Ocean Cargo Express; Hamburg-Süd; Hapag-Lloyd Container Linie GmbH; Hoegh Autoliners A/S; Independent Container Line Ltd.; Montemar Maritima S.A.; Norasia Container Lines Limited; Safmarine Container Lines N.V.; Tropical Shipping & Construction Co., Ltd.; United Arab Shipping Company (S.A.G.); Wallenius Wilhelmsen Logistics AS; and Zim Integrated Shipping Services, Ltd.

Filing Party: Wayne R. Rohde, Esq.; Sher & Blackwell LLP; 1850 M Street, NW; Suite 900; Washington, DC 20036.

Synopsis: The amendment substitutes COSCO Container Lines (Hong Kong) Co., Ltd. for COSCO Container Lines Company Limited as a party to the Agreement and revises the address of that entity. It also changes the names of Hapag-Lloyd and Montemar Maritima, and corrects the address of Hamburg Sd.

Agreement No.: 201147-001.

Title: Broward/Chiquita Lease and Operating Agreement.

Parties: Broward County (Florida) and Chiquita Fresh North America LLC.

Filing Party: Ms. Candace J. McCann; Office of the County Attorney, Broward County; 1850 Eller Drive, Suite 502; Fort Lauderdale, FL 33316.

Synopsis: The amendment adds additional office space to the leased premises under the basic arrangement.

By order of the Federal Maritime Commission.
Dated: February 8, 2007.
Bryant L. VanBrakle,
Secretary.

[FR Doc. E7-2459 Filed 2-12-07; 8:45 am]

BILLING CODE 6730-01-P